DEPARTMENT OF THE INTERIOR

Bureau of Indian Affairs

25 CFR Part 170

Indian Reservation Roads Program

AGENCY: Bureau of Indian Affairs, Interior.

ACTION: Notice of public information and education meetings on Indian Reservation Roads Program final rule.

SUMMARY: We are announcing public meetings to provide information and education on the contents of each subpart of the final rule for the Indian Reservation Roads Program. The final rule is the result of negotiated rulemaking between tribal and Federal representatives under the Transportation Equity Act for 21st Century. The final rule establishes policies and procedures governing the Indian Reservation Roads Program and provides guidance for planning, designing, constructing, and maintaining transportation facilities. It also expands transportation activities available to tribes and tribal organizations. The final rule also establishes a funding distribution methodology called the Tribal Transportation Allocation Methodology (TTAM).

FOR FURTHER INFORMATION CONTACT: LeRoy Gisha, Chief, Division of Transportation, Bureau of Indian Affairs, 1951 Constitution, NW., MS-320-SIB, Washington, DC 20240, telephone (202) 513-7711 or fax (202) 208-4696.

SUPPLEMENTARY INFORMATION: The public information and education meetings are not public hearings and are not public comment meetings. The meetings will consist of presentations on each part of the final rule with time for clarification questions at the end of the meeting. We will provide information packets on the final rule at the meeting. For more information on the location of the meetings visit the Federal Highway Administration, Federal Lands Highway Web site at: http://www.fhwa.dot.gov/flh. The meetings will begin at 8 a.m. and end at 4:30 p.m. local time and will be held on the dates and at the locations listed below:

Meeting date | Location
August 10, 2004 | Oklahoma City, OK
August 12, 2004 | Albuquerque, NM
August 24, 2004 | Las Vegas, NV
August 26, 2004 | Seattle, WA
September 8, 2004 | Anchorage, AK
September 10, 2004 | Fairbanks, AK
September 21, 2004 | Minneapolis, MN
September 23, 2004 | Nashville, TN

Meeting Agenda (all times local)

8 a.m.-8:15 a.m. Welcome, Introductions, Ground Rules.

8:15 a.m.-8:30 a.m. Opening and Overview.

8:30 a.m.-11:45 a.m. Preamble.

Subpart A—Policies, Applicability, and Definitions.

Subpart B—IRR Program Policy and Eligibility.

Subpart D—Planning, Design, and Construction of IRR Program Facilities.

11:45 a.m.-12:45 p.m. Lunch.

12:45 p.m.-4 p.m.

Subpart E—Service Delivery For IRR.

Subpart F—Program Oversight and Accountability.

Subpart G—BIA Road Maintenance.

Subpart H—Miscellaneous Provisions.

Subpart C—IRR Program Funding.

4 p.m.-4:30 p.m. Clarification Questions.

4:30 p.m. Adjourn.

Dated: July 27, 2004.
David W. Anderson,
Assistant Secretary—Indian Affairs.

[FR Doc. 04-17418 Filed 7-29-04; 8:45 am]

BILLING CODE 4310-LH-M